DEPARTMENT OF HOUSING AND URBAN DEVELOPMENT

[Docket No. FR-4950-FA-12]

Announcement of Funding Awards for Fiscal Year 2005 Historically Black Colleges and Universities Program

AGENCY: Office of the Assistant Secretary for Policy Development and Research, Housing and Urban Development.

ACTION: Announcement of funding awards.

SUMMARY: In accordance with section 102 (a)(4)(C) of the Department of Housing and Urban Development Reform Act of 1989, this document notifies the public of funding awards for Fiscal Year 2005 Historically Black Colleges and Universities Program. The purpose of this document is to announce the names, addresses and the amount awarded to the winners to be used to help Historically Black Colleges and Universities (HBCUs) expand their role and effectiveness in addressing community development needs in their localities, consistent with the purposes of HUD's Community Development Block Grant program (CDBG).

FOR FURTHER INFORMATION CONTACT: Susan Brunson, Office of University Partnerships, U.S. Department of Housing and Urban Development, 451 Seventh Street, SW., Room 8106, Washington, DC 20410, telephone (202) 708-3061, ext. 3852. To provide service for persons who are hearing-or-speech-impaired, this number may be reached via TTY by Dialing the Federal Information Relay Service on (800) 877-8339 or (202) 708-1455. (Telephone numbers, other than “800” TTY numbers are not toll free.)

SUPPLEMENTARY INFORMATION: The Historically Black Colleges and Universities Program was enacted under section 107 of the CDBG appropriation for Fiscal Year 2005, as part of the “Veterans Administration, HUD and Independent Agencies Appropriations Act of 2002” and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The HBCU program provides funds for a wide range of CDBG-eligible activities including housing rehabilitation and financing, property demolition or acquisition, public facilities, economic development, business entrepreneurship, and fair housing programs.

The Catalog Federal Domestic Assistance number for this program is 14.520.

On March 21, 2005 (70 FR 13693), HUD published a Notice of Funding Availability (NOFA) announcing the availability of $9.92 million in Fiscal Year 2005, plus $3.327 million in previously unobligated funds for the HBCU program. Of this amount, $2.4 million was made available to HBCU applicants that had not been funded in the past (applicants could request up to $400,000) and $10.8 million to HBCU applicants that had been previously funded (applicants could request up to $600,000). The Department reviewed, evaluated, and scored the applications received based on the criteria in the NOFA. As a result, HUD has funded the applications below, in accordance with section 102(a)(4)(C) of the Department of Housing and Urban Development Reform Act of 1989 (103 Stat. 1987, 42 U.S.C. 3545).

List of Awardees for Grant Assistance Under the FY 2005 Historically Black Program Funding Competition, by Institution, Address, and Grant Amount

Region III

1. Howard University, Dr. Rodney Green, Howard University, 2400 6th Street, NW., Washington, DC 20059. Grant: $600,000.

2. Delaware State University, Dr. John N. Austin, Delaware State University, 1200 North Dupont Highway, Dover, DE 19901. Grant: $588,056.

Region IV

3. Fort Valley State University, Mrs. Dollie D. Horton, Fort Valley State University, 1005 State University Drive, Fort Valley, GA 31030. Grant: $600,000.

4. LeMoyne-Owen College, Mr. Jeffrey Higgs, LeMoyne-Owen College, 807 Walker Avenue, Memphis, TN 38126. Grant: $599,428.

5. Winston-Salem State University, Ms. Valerie Howard, Winston-Salem State University, 601 North Martin Luther King Jr. Drive, Winston-Salem, NC 27110. Grant: $600,000.

6. Albany State University, Dr. Teresa M. Orok, Albany State University, 504 College Drive, Albany, GA 31705. Grant: $600,000.

7. Rust College, Christine Ratclift, Rust College, 150 East Rust Avenue, Holly Springs, MS 38635. Grant: $598,453.38

8. South Carolina State University, Ms. Merylin M. Jackson, South Carolina State University, 300 College Street, NE., Orangeburg, SC 29117. Grant: $600,000.

9. Clinton Junior College, Ms. Cheryl J. McCullough, Clinton Junior College, 1029 Crawford Road, Rock Hill, SC 29730. Grant: $400,000.

10. Stillman College, Dr. Eddie B. Thomas, Stillman College, 3706 Stillman Boulevard, P.O. Box 1430, Tuscaloosa, AL 35401. Grant: $600,000.

11. Voorhees College, Mr. William B. Owens, Voorhees College, P.O. Box 678, Denmark, SC 29042. Grant: $600,000.

12. Tennessee State University, Dr. Deena S. Fuller, Tennessee State University, 3500 John Merritt Blvd., Nashville, TN 37209. Grant: $600,000.

Region VI

13. Texas Southern University, Ms. Ella M. Nunn, Texas Southern University, 3100 Cleburne Avenue, Houston, TX 77004. Grant: $600,000.

Dated: September 22, 2005.
Harold Bunce,
Deputy Assistant Secretary for Economic Affairs.

[FR Doc. E5-5464 Filed 10-5-05; 8:45 am]

BILLING CODE 4210-27-P